DEPARTMENT OF LABOR

Employment and Training Administration

[TA-W-82,326; TA-W-82,326A]

YP Western Directory LLC, San Francisco Division, Publishing Operations Group, YP Subsidiary Holdings LLC, YP LLC, YP Holdings LLC, Including On-Site Leased Workers From Zero Chaos, San Francisco, California; YP Western Directory LLC, San Francisco Division, Publishing Operations Group, YP Subsidiary Holdings LLC, YP LLC, YP Holdings LLC, Including On-Site Leased Workers From Zero Chaos, Pleasanton, California; Amended Certification Regarding Eligibility To Apply for Worker Adjustment Assistance

In accordance with Section 223 of the Trade Act of 1974, as amended (“Act”), 19 U.S.C. 2273, the Department of Labor issued a Certification of Eligibility to Apply for Worker Adjustment Assistance on February 13, 2013, applicable to workers of YP Western Directory LLC, San Francisco Division, Publishing Operations Group, YP Subsidiary Holdings LLC, PY LLC, YP Holdings LLC, including on-site leased workers from Zero Chaos, San Francisco, California. The workers are engaged in activities related to the supply of publishing operations services. Workers within the Publishing Operations Group are separately identifiable from other business units within YP Western Directory LLC, Therefore, the certification is limited to only those workers within the Publishing Operations Group who are located at (or report to) San Francisco, California. The notice was published in the Federal Register on February 25, 2013 (78 FR 12796).

At the request of a company official, the Department reviewed the certification for workers of the subject firm.

New information shows that Pleasanton, California is a sister facility of the San Francisco, California location of the subject firm. Both facilities are engaged in activities related to the supply of publishing operations services, and have experienced worker separations during the relevant time period due to a shift in these services to a foreign country.

Accordingly, the Department is amending the certification to include workers of the Pleasanton, California location of YP Western Directory LLC.

The amended notice applicable to TA-W-82,326 is hereby issued as follows:

“All workers of YP Western Directory LLC, San Francisco Division, Publishing Operations Group, YP Subsidiary Holdings LLC, YP LLC, YP Holdings LLC, including on-site leased workers from Zero Chaos, San Francisco, California (TA-W-82,326), and YP Western Directory LLC, San Francisco Division, Publishing Operations Group, YP Subsidiary Holdings LLC, YP LLC, YP Holdings LLC, including on-site leased workers from Zero Chaos, Pleasanton, California (TA-W-82,326A), who became totally or partially separated from employment on or after January 8, 2012, through February 13, 2015, and all workers in the group threatened with total or partial separation from employment on the date of certification through two years from the date of certification, are eligible to apply for adjustment assistance under Chapter 2 of Title II of the Trade Act of 1974, as amended,”

Signed in Washington, DC, this 22nd day of August 2013.
Del Min Amy Chen,
Certifying Officer, Office of Trade Adjustment Assistance.

[FR Doc. 2013-21424 Filed 9-3-13; 8:45 am]

BILLING CODE 4510-FN-P